DEPARTMENT OF HOMELAND SECURITY

Coast Guard

33 CFR Parts 148, 149, and 150

[USCG-1998-3884]

RIN 1625-AA20 (formerly RIN 2115-AF63)

Deepwater Ports; Correction

AGENCY: Coast Guard, DHS.

ACTION: Temporary interim rule; correction.

SUMMARY: On January 6, 2004, the Coast Guard published a temporary interim rule with request for comments in the Federal Register, which inadvertently contained errors in the table of contents for 33 CFR part 149 and in paragraph designations for 33 CFR 149.415. This document corrects those errors.

DATES: Effective on January 27, 2004.

FOR FURTHER INFORMATION CONTACT: Lieutenant Commander Kevin Tone, Vessel and Facility Operating Standards Division (G-MSO-2), Coast Guard, telephone 202-267-0226.

SUPPLEMENTARY INFORMATION: The Coast Guard published a temporary interim rule with request for comments in the Federal Register of January 6, 2004 (69 FR 724; FR Doc. 03-32204). The rule contained inadvertent errors in the table of contents to 33 CFR part 149 and in paragraph designations for 33 CFR 149.415. These errors are nonsubstantive, but we are correcting them to prevent unnecessary confusion.

PART 149—[CORRECTED]

In temporary interim rule FR Doc. 03-32204 published on January 6, 2004 (69 FR 724), make the following corrections. On page 761, in the third column, remove the words “149.150 What are the requirements for the receipt of oil residues from vessels?” On page 769, in the second column under § 149.415, redesignate paragraphs (d) and (e) as paragraphs (c) and (d) respectively.

Dated: January 20, 2004.
Howard L. Hime,
Acting Director of Standards, Marine Safety, Security, & Environmental Protection.

[FR Doc. 04-1642 Filed 1-26-04; 8:45 am]

BILLING CODE 4910-15-P